COMMODITY FUTURES TRADING COMMISSION

Request To Exempt Certain Over-the-Counter Swaps From Certain of the Requirements Imposed by Commission Regulation 35.2, Pursuant to the Authority in Section 4(C) of the Commodity Exchange Act; Reopening of Comment Period

AGENCY: Commodity Futures Trading Commission.

ACTION: Notice of request for comment on exemption request; reopening of comment period.

SUMMARY: The Commodity Futures Trading Commission (“Commission”) is reopening the period for public comment to provide interested persons additional time to comment on whether to exempt certain over-the-counter (“OTC”) agricultural swaps from certain of the requirements otherwise imposed by Commission Regulation 35.2. The comment period is being reopened due to the non-transmittal of a comment letter from the Federal eRulemaking Portal to the Commission. The purpose of the Commission's action is to afford the commenter whose submission was not received, the opportunity to resubmit the comment. The Chicago Mercantile Exchange Inc. (“CME”), a registered derivatives clearing organization, and the Board of Trade of the City of Chicago, Inc. (“CBOT”), a designated contract market, requested an exemption that would permit the clearing of OTC agricultural swaps. Authority for extending this relief is found in Section 4(c) of the Commodity Exchange Act.¹

¹ 7 U.S.C. 6(c).

DATES: Comments must be received on or before January 21, 2009.

ADDRESSES: Comments may be submitted by any of the following methods:

• Federal eRulemaking Portal: http://www.regulations.gov/http://frwebgate.access.gpo/cgi-bin/leaving. Follow the instructions for submitting comments.

• E-mail: secretary@cftc.gov. Include “CME/CBOT Section 4(c) Petition” in the subject line of the message.

• Fax: 202-418-5521.

• Mail: Send to David A. Stawick, Secretary, Commodity Futures Trading Commission, Three Lafayette Centre, 1155 21st Street, NW., Washington, DC 20581.

• Courier: Same as mail above.

All comments received will be posted without change to http://www.cftc.gov.

FOR FURTHER INFORMATION CONTACT: Sarah E. Josephson, Special Counsel, 202-418-5684, sjosephson@cftc.gov, or Phyllis P. Dietz, Associate Director, 202-418-5449, pdietz@cftc.gov, Division of Clearing and Intermediary Oversight, Commodity Futures Trading Commission, Three Lafayette Centre, 1155 21st Street, NW., Washington, DC 20581.

SUPPLEMENTARY INFORMATION:

I. General Information

Pursuant to the E-Government Act of 2002, Pub. L. 107-347, in January 2003, the interagency eRulemaking Program launched http://www.regulations.gov (the Federal eRulemaking Portal) to provide citizens with an online portal to learn about proposed regulations and to submit comments. The Commission receives comments through five distinct methods, including the Federal eRulemaking Portal.

During the time from March 22, 2008 through September 8, 2008, the Federal eRulemaking Portal experienced a software problem resulting in the non-transmittal of some public comments. The software error affected only a few federal agencies. The eRulemaking Program informed the Commission that one comment regarding CME and CBOT's requested 4(c) exemption to permit clearing of OTC corn basis swaps and corn, wheat, and soybean calendar swaps was not transmitted from the eRulemaking Portal to the Commission. The eRulemaking Program was unable to provide any information regarding the identity of the commenter or nature of the lost comment. It is the Commission's understanding that the transmission problem has been corrected, and safeguards are now in place to ensure this error will not occur in the future. This software problem affected none of the other methods by which the Commission accepts comments.

II. Specific Information

The Commission is reopening the period for public comment specifically to afford the commenter, whose submission was not received, the opportunity to resubmit the comment. In addition, any other member of the public may submit a comment during the reopened comment period. The original notice of request for public comment was published on July 7, 2008, and the comment period closed on August 21, 2008. Please refer to 73 FR 38403 (July 7, 2008) for the original notice and refer to the Commission Web site (http://www.cftc.gov) to view the exemption request and comments submitted and received as of the publication of this notice.

Issued in Washington, DC, on December 24, 2008 by the Commission.
David A. Stawick,
Secretary of the Commission.

[FR Doc. E8-31132 Filed 12-30-08; 8:45 am]

BILLING CODE 6351-01-P